ENVIRONMENTAL PROTECTION AGENCY

[EPA-HQ-OAR-2021-0086; FRL-9555-01-OMS]

Information Collection Request Submitted to OMB for Review and Approval; Comment Request; NESHAP for Coke Oven Batteries (Renewal)

AGENCY: Environmental Protection Agency (EPA).

ACTION: Notice.

SUMMARY: The Environmental Protection Agency (EPA) has submitted an information collection request (ICR), NESHAP for Coke Oven Batteries (EPA ICR Number 1362.12, OMB Control Number 2060-0253), to the Office of Management and Budget (OMB) for review and approval in accordance with the Paperwork Reduction Act. This is a proposed extension of the ICR, which is currently approved through April 30, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 10, 2022.

ADDRESSES: Submit your comments, referencing Docket ID Number EPA-HQ-OAR-2021-0086, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Coke Oven Batteries (40 CFR part 63, subpart L) were proposed on December 4, 1992; promulgated on October 27, 1993; and amended on April 15, 2005. These regulations apply to all coke oven batteries, whether existing, new, reconstructed, rebuilt, or restarted. It also applies to all batteries using conventional by-product recovery processes, non-recovery processes, or any new recovery processes. New facilities include those that commenced construction or reconstruction after the date of proposal. This information is being collected to assure compliance with 40 CFR part 63, subpart L.

Form Numbers: None.

Respondents/affected entities: Owners or operators of iron and steel integrated plants that produce coke for their operations and merchant plants that produce furnace and foundry coke for sale on the open market.

Respondent's obligation to respond: Mandatory (40 CFR part 63, subpart L).

Estimated number of respondents: 14 (total).

Frequency of response: Semiannually.

Total estimated burden: 58,200 hours (per year). Burden is defined at 5 CFR 1320.3(b).

Total estimated cost: $6,880,000 (per year), which includes $0 in annualized capital/startup and/or operation & maintenance costs.

Changes in the Estimates: The decrease in burden from the most-recently approved ICR is due to a decrease in the number of sources. There is an adjustment decrease in labor hours from the most-recently approved ICR. This decrease reflects revisions to the number of existing respondents that are subject to 40 CFR part 63, subpart L, and that are anticipated to reconstruct or close batteries subject to these standards. This decrease is not due to any program changes. Since there are no changes in the regulatory requirements and there is no significant industry growth, there are also no changes in the capital/startup or operation and maintenance (O&M) costs.

Courtney Kerwin,
Director, Regulatory Support Division.

[FR Doc. 2022-02616 Filed 2-7-22; 8:45 am]

BILLING CODE 6560-50-P